DEPARTMENT OF COMMERCE

Foreign-Trade Zones Board

Order No. 1551

Grant of Authority; Establishment of a Foreign-Trade Zone, West Memphis, Arkansas

Pursuant to its authority under the Foreign-Trade Zones Act of June 18, 1934, as amended (19 U.S.C. 81a-81u), the Foreign-Trade Zones Board adopts the following Order:

WHEREAS, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the City of West Memphis, Arkansas Public Facilities Board (the Grantee), an Arkansas public board, has made application to the Board (FTZ Docket 11-2007, filed 3/14/07), requesting the establishment of a foreign-trade zone at a site in West Memphis, Arkansas, adjacent to the Memphis Customs and Border Protection port of entry;

WHEREAS, notice inviting public comment has been given in the Federal Register (72 FR 13743, 3/23/07); and,

WHEREAS, the Board adopts the findings and recommendations of the examiner’s report, and finds that the requirements of the FTZ Act and the Board’s regulations are satisfied, and that approval of the application is in the public interest;

NOW, THEREFORE, the Board hereby grants to the Grantee the privilege of establishing a foreign-trade zone, designated on the records of the Board as Foreign-Trade Zone No. 273, at the site described in the application, and subject to the Act and the Board’s regulations, including Section 400.28.

Signed at Washington, DC, this 15th day of April 2008.

FOREIGN-TRADE ZONES BOARD
Carols M. Gutierrez,
Secretary of Commerce Chairman and Executive Officer.
Attest:
Andrew McGilvray,
Executive Secretary.

[FR Doc. E8-9976 Filed 5-5-08; 8:45 am]

BILLING CODE 3510-DS-S